CORPORATION FOR NATIONAL AND COMMUNITY SERVICE

Notice of Availability of Funds for AmeriCorps*VISTA Program Grants

AGENCY: Corporation for National and Community Service.

ACTION: Notice of funding availability.

SUMMARY: The Corporation for National and Community Service (hereinafter the ‘Corporation’) announces the availability of approximately $3,000,000 in fiscal year 2003 funds to award AmeriCorps*VISTA program grants to eligible nonprofit and public organizations. The Corporation anticipates making between 5 and 15 AmeriCorps*VISTA program grants under this announcement. Each grant budget will support a minimum of 15 and a maximum of 50 AmeriCorps*VISTA members on a full-time basis for one year of service. The Corporation will make awards covering a period not to exceed one year with a potential for an additional two years of funding, contingent upon satisfactory performance, the availability of funds, and other criteria established in the award agreement. These estimates are projections for the guidance of potential applicants. The Corporation is not bound by any estimate in this notice. Publication of this announcement does not obligate the Corporation to award any specific number of grants or to obligate the entire amount of funds available, or any part thereof, for grants under the AmeriCorps*VISTA program. Applicable regulations include the uniform administrative requirements for grants and agreements with institutions of higher education, hospitals, and other nonprofit organizations, 45 CFR part 2543 or the uniform administrative requirements for grants and cooperative agreements to State and local governments, 45 CFR part 2541.

AmeriCorps*VISTA assigns individuals 18 years and older, on a full-time, year-long basis, to public and private nonprofit organizations whose goals are in accord with AmeriCorps*VISTA's legislative mission. (42 U.S.C. 4951) The purpose of these program grants is to create and expand opportunities for low income individuals in one of the following broad areas: (1) Children and youth; (2) welfare to work; (3) financial asset development; (4) seniors in poverty, and (5) homeland security. AmeriCorps*VISTA Projects in these initiatives will focus on (1) local or state organizations working alone or in conjunction with local affiliates that share a vision and common goal of working with low-income communities to achieve long-lasting antipoverty objectives; (2) promotion of partnerships and collaboration between the public and private sectors including businesses, community-based organizations (secular and faith-based) and other service programs; (3) recruitment, training, and coordination of local volunteers; (4) mobilization of resources needed to support the project; and (5) development of a sustainable capacity in local communities. While there is no specific match requirement, the level of matching contributions will also be considered in final application selection.

Eligible applicants for AmeriCorps*VISTA program grants supporting these initiatives must be private non-profit or public organizations. AmeriCorps*VISTA sponsoring organizations may apply without affecting the status of their current projects. However, applicants must differentiate between this grant's proposed activities and those of the currently-funded program or pending application. Eligible nonprofit and public organizations, including those that have not applied for federal assistance from the Corporation in the past, as well as interested community-based organizations (secular and faith-based), are encouraged to apply.

Note: This notice is not a complete description of the activities to be funded or of the application requirements. For supplementary information and application guidelines go to the Corporation's Web site at http://www.cns.gov/whatshot/notices.html. You can also find more information about AmeriCorps*VISTA project sponsorship in general at http://www.americorps.org/vista/sponsorinfo.html.

DATES: Applications must be received at the Corporation by 5 p.m. on August 15, 2003. We anticipate announcing selections under this Notice no later than September 12, 2003.

ADDRESSES: Submit your application to the following address: Corporation for National and Community Service, 1201 New York Avenue NW., Stop 9100, Washington, DC 20525. Due to delays in delivery of regular mail to government offices, there is no guarantee that an application sent by regular mail will arrive in time to be considered. We therefore suggest that you use U.S.P.S. priority mail or a commercial overnight delivery service to make sure that you meet the deadline. We will not accept an application that is submitted via facsimile. Applications for AmeriCorps*VISTA will not be accepted via eGrants at this time.

FOR FURTHER INFORMATION CONTACT: Kelly Daly at (202) 606-5000 ext. 378, or by e-mail at vista@americorps.org. The TDD number is 202-565-2799. For a printed copy of this NOFA and the supplementary information and application guidelines (available on-line), contact Ms. Daly at (202) 606-5000 ext. 378. Upon request, this information will be made available in alternate formats for people with disabilities.

Dated: June 26, 2003.
David Caprara,
Director, AmeriCorps*VISTA.

[FR Doc. 03-16623 Filed 7-1-03; 8:45 am]

BILLING CODE 6050-$$-P